CORPORATION FOR NATIONAL AND COMMUNITY SERVICE

Information Collection; Submission for OMB Review; Comment Request

AGENCY: Corporation for National and Community Service.

ACTION: Notice.

SUMMARY: The Corporation for National and Community Service (hereinafter the “Corporation”) has submitted a public information collection request (ICR) to the Office of Management and Budget (OMB) for review and approval in accordance with the Paper Reduction Act of 1995, Pub. L. 104-13, (44 U.S.C. chapter 35). Copies of this ICR, with applicable supporting documentation, may be obtained by calling the Corporation for National and Community Service, Robert Bush, at (202) 606-5000, extension 338. Individuals who use a telecommunications device for the deaf (TTY-TDD) may call (800) 833-3722 between the hours of 9:00 a.m. and 5:00 p.m. Eastern Standard Time, Monday through Friday.

Comments should be sent to the Office of Information and Regulatory Affairs, Attn: Ms. Brenda Aguilar, OMB Desk Officer for the Corporation for National and Community Service, Office of Management and Budget, Room 10235, Washington, DC, 20503, (202) 395-7316, within 30 days from the date of publication in this Federal Register.

The OMB is particularly interested in comments which:

• Evaluate whether the proposed collection of information is necessary for the proper performance of the functions of the Corporation, including whether the information will have practical utility;

• Evaluate the accuracy of the agency's estimate of the burden of the proposed collection of information, including the validity of the methodology and assumptions used;

• Propose ways to enhance the quality, utility and clarity of the information to be collected; and

• Propose ways to minimize the burden of the collection of information on those who are to respond, including the use of appropriate automated, electronic, mechanical, or other technological collection techniques or other forms of information technology, e.g., permitting electronic submissions of responses.

The Corporation is soliciting comments concerning its proposed renewal of its AmeriCorps*VISTA Project Progress Report, OMB Control Number 3045-0043. This form is due to expire on October 31, 2001.

Type of Review: Renewal.

Agency: Corporation for National and Community Service.

Title: AmeriCorps*VISTA Project Progress Report Form.

OMB Number: 3045-0043.

Agency Number: CNCS Form 1433.

Affected Public: AmeriCorps*VISTA sponsoring organizations, site supervisors, and members.

Total Respondents: 1,200.

Frequency: Quarterly, with exceptions.

Average Time Per Response: Three hours.

Estimated Total Burden Hours: 9,600 hours.

Total Burden Cost (capital/startup): None.

Total Burden Cost (operating/maintenance): None.

Description

The Corporation proposes to distribute the AmeriCorps*VISTA Project Progress Report form to AmeriCorps*VISTA sponsoring organizations upon project approval. Sponsoring organizations are required to submit a completed form to the Corporation on a quarterly basis. Corporation personnel will use the form to track project accomplishments, problems, resources generated, project sustainability, and support provided to AmeriCorps*VISTA members. Information from the form is also used to fulfill requests for substantive project information. The purpose of the form is to evaluate a sponsor's progress towards meeting project goals and objectives, assess risk, and document qualitative and quantitative information about project accomplishments for a given reporting period.

The Corporation also proposes to revise the AmeriCorps*VISTA Project Progress Report by deleting unused information from the existing version of the form, incorporating plain language, and collecting the following project information:

• Activities that contribute to building permanent infrastructure.

• Outcomes that demonstrate helping people out of poverty.

Further, the Corporation proposes to revise the AmeriCorps*VISTA Project Progress Report by requesting the “e-mail address” of project supervisors to provide a more inexpensive and faster way to communicate and share information, and by asking sponsoring organizations if they have technical assistance needs.

Dated: November 8, 2001.
Robert L. Bush,
Acting Director, AmeriCorps*VISTA.

[FR Doc. 01-28549 Filed 11-14-01; 8:45 am]

BILLING CODE 6050-$$-P